DEPARTMENT OF LABOR

Employment and Training Administration

20 CFR Part 655

RIN 1205-AB24

Labor Certification and Petition Process for the Temporary Employment of Nonimmigrant Aliens in Agriculture in the United States; Modification of Fee Structure; Withdrawal of Proposed Rule

AGENCY: Employment and Training Administration, Labor.

ACTION: Withdrawal of proposed rule.

SUMMARY: The Department of Labor is withdrawing its proposed rule published in the Federal Register on July 13, 2001 (65 FR 43545), which would have required employers seeking to temporarily employ nonimmigrant farmworkers to submit, at the time of filing, a new consolidated application form, fees for the labor certification, and the associated H-2A petition. For the reasons discussed below, the Department has decided to withdraw the proposed rule and to terminate the rulemaking.

DATES: This withdrawal is made on September 24, 2002.

FOR FURTHER INFORMATION CONTACT: Charlene G. Giles, Team Leader, Division of Foreign Labor Certification, Employment and Training Administration, U.S. Department of Labor, Room C-4318, 200 Constitution Avenue, NW., Washington, DC 20210. Telephone (202) 693-2950 (this is not toll-free number).

SUPPLEMENTARY INFORMATION: The Department is withdrawing a proposed rule related to the temporary employment of nonimmigrant agriculture (H-2A) workers in the United States. The proposed amendment would have required an employer seeking a temporary alien agricultural labor certification to submit with a consolidated application form the fees for labor certification and the associated H-2A petition. The proposal also would have modified the fee structure for issuing H-2A labor certifications. Agricultural employers and workers and their representatives strongly opposed DOL's proposal to consolidate into a proposed new Form 9079 the existing two forms (Form ETA 750 and Form I-129) used by DOL for the certification process and by the Immigration and Naturalization Service (INS) for the H-2A visa petition process. Both groups of commenters cited increased difficulties with the new form, such as the requirement that the employer obtain the foreign agricultural worker's signature and the requirement to accurately state the terms and conditions of employment of complex agricultural occupations.

The proposed rule also would have established a three-tiered labor certification fee based upon the number of temporary workers for which each agricultural employer was applying. Agricultural employers commented that the proposed three-tiered fee structure would be unfavorable to small farmers, and they recommended that no such change be made.

Based upon the Department's review of the rulemaking record as a whole, the Department has decided to withdraw the proposed rule and terminate the rulemaking action.

Signed at Washington DC, this 18th day of September, 2002.
Emily Stover DeRocco,
Assistant Secretary of Labor for Employment and Training.

[FR Doc. 02-24190 Filed 9-23-02; 8:45 am]

BILLING CODE 4510-30-P